DEPARTMENT OF TRANSPORTATION

Federal Aviation Administration

[Docket No. FAA-2024-2158]

Agency Information Collection Activities: Requests for Comments; Clearance of a Renewed Approval of Information Collection: Unmanned Aircraft Systems (UAS) BEYOND and Partnership for Safety Plan (PSP) Programs

AGENCY: Federal Aviation Administration (FAA), DOT.

ACTION: Notice and request for comments.

SUMMARY: In accordance with the Paperwork Reduction Act of 1995, FAA invites public comments about our intention to request the Office of Management and Budget (OMB) approval to renew an information collection. The collection involves operational data submissions by proponents who have been granted exemptions and operational and report submissions by State, local, Tribal, and territorial (SLTT) participants in the UAS BEYOND program. The information to be collected will be used to inform FAA policy and decision-making regarding integrating UAS into the National Airspace System (NAS).

DATES: Written comments should be submitted by November 18, 2024.

ADDRESSES: Please send written comments:

By Electronic Docket: www.regulations.gov (Enter docket number into search field).

By mail: Kim Merchant, c/o Tammie Meadows, Federal Aviation Administration, 800 Independence Avenue SW, Rm. 127, Washington, DC 20591-0001.

By fax: 202-267-4193.

FOR FURTHER INFORMATION CONTACT: Kim Merchant by email at: kim.merchant@faa.gov; phone: 202-267-6148.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0800.

Title: Unmanned Aircraft Systems (UAS) BEYOND and Partnership for Safety Plan (PSP) Programs.

Form Numbers:

• UAS Monthly Flight Report (Pending)

• UAS Exemption Monthly Flight Report (Pending)

• Automated Data Service Provider (ADSP) Monthly Report (Pending)

• UAS Flight Anomaly Report (Pending)

• BEYOND Semi-Annual Report (Pending)

• BEYOND Program Withdrawal Report (Pending)

Type of Review: Renewal of an information collection.

Background: The data collected during the Unmanned Aircraft Systems (UAS) BEYOND program is delineated as part of the Memorandum of Agreement (MOA) each Lead Participant signs with the FAA, and entered into under the authority of 49 U.S.C. 106(l) and (m). The data collected from proponents granted exemptions is specified in the conditions and limitations of the exemptions under the authority provided by 49 U.S.C. 106(f), 40113, 44701, and 44807. The data collected from proponents granted certificates of authorization is specified in the conditions and limitations of the authorizations under the authority provided by 49 U.S.C. 40102(a) or 49 U.S.C. 40125. The data collected from proponents granted part 107 waivers is specified in the conditions and limitations of the waivers under the authority provided by 14 CFR part 107.

There are two types of data collection. First, BEYOND program participants submit narrative reports to inform the FAA of operational trends, and highlight successes and failures and their causes. The purpose of the narrative reports is to help the FAA make policy and resource decisions, especially in regard to the challenges and opportunities in integrating UAS into the National Airspace System (NAS). The narrative reports include semi-annual reports and, if needed, program withdrawal reports.

Second, BEYOND participants and other select proponents submit operational data, including monthly flight data, Automated Data Service Provider (ADSP) monthly data, and anomaly data. The purpose of these submissions is to monitor the safety of the flights and the effectiveness of the safety mitigations in place, and inform policy and decision-making related to the risks associated with operations involving command and control (C2) links, detect and avoid (DAA) capabilities, ADSP reliability, anomaly detection, and a host of other categories, to solve challenges in enabling UAS beyond visual line of sight (BVLOS) operations.

Respondents: Depending on the submission, the respondents are two groups:

1. State, local, Tribal, or territorial government—BEYOND Lead Participants

2. Business or other for-profit—Team members of the BEYOND Lead Participants and proponents with reporting conditions and limitations in their operational approvals

Frequency: The frequency depends on the report. See the table below for details.

Estimated Average Burden per Response: Depending on the submission, the overall estimated average burden per response varies from 1 to 80 hours. See the table below for details.

Estimated Total Annual Burden: The estimated total annual burden for all submissions is 1,755 hours. See the following table for a breakdown by report or form.

Report/form | Affected public | Frequency | Number of respondents | Total number of responses | Estimated average burden per response (hours) | Estimated total annual burden (hours)
Narrative Reports:
BEYOND Semi-Annual Reports | State, Local, Tribal, or Territorial Government, BEYOND participants only | Semi-Annually | 8.00 | 16.00 | 80.00 | 1,280.00
BEYOND Program Withdrawal Reports | State, Local, Tribal, or Territorial Government, BEYOND participants only | One-Time Submission | 8.00 | 1.00 | 40.00 | 40.00
Narrative Reports Sub-Totals |  |  | 16.00 | 17.00 | 77.65 | 1,320.00
Operational Data:
UAS Monthly Flight Reports | Proponents with approval documents that include flight reporting C&Ls and BEYOND participants | Monthly | 15.00 | 180.00 | 1.00 | 180.00
ADSP Monthly Reports | ADSPs that have service level agreements with proponents that submit UAS Monthly Flight Reports | Monthly | 10.00 | 120.00 | 1.50 | 180.00
UAS Anomaly Reports | Proponents with approval documents that include event reporting C&Ls and BEYOND participants | On Occasion—Assuming 5 annually per participant | 15.00 | 75.00 | 1.00 | 75.00
Operational Data Sub-Totals |  |  | 40.00 | 375.00 | 1.16 | 435.00
Totals |  |  | 56.00 | 392.00 | 4.48 | 1,755.00

Issued in Washington, DC, on August 12, 2024.
Kim Merchant,
Manager, Special Projects Branch, Unmanned Aircraft Systems Integration Office, Federal Aviation Administration.

[FR Doc. 2024-21264 Filed 9-17-24; 8:45 am]

BILLING CODE 4910-13-P